DEPARTMENT OF COMMERCE

National Oceanic and Atmospheric Administration

RIN 0648-XY58

Endangered Species; File No. 14759

AGENCY: National Marine Fisheries Service (NMFS), National Oceanic and Atmospheric Administration (NOAA), Commerce.

ACTION: Issuance of permit.

SUMMARY: Notice is hereby given that Joseph Hightower, Ph.D., North Carolina Cooperative Fish and Wildlife Research Unit, North Carolina State University, Raleigh, NC 27695, has been issued a permit to take shortnose sturgeon (Acipenser brevirostrum) for scientific research.

ADDRESSES: The permit and related documents are available for review upon written request or by appointment in the following office(s):

• Permits, Conservation and Education Division, Office of Protected Resources, NMFS, 1315 East-West Highway, Room 13705, Silver Spring, MD 20910; phone (301) 713-2289; fax (301) 713-0376; and

• Southeast Region, NMFS, 263 13th Ave South, St. Petersburg, FL 33701; phone (727)824-5312; fax (727)824-5309.

FOR FURTHER INFORMATION CONTACT: Malcolm Mohead or Colette Cairns, (301)713-2289.

SUPPLEMENTARY INFORMATION: On March 12, 2010, notice was published in the Federal Register (75 FR 11862) that a request for a scientific research permit to take shortnose sturgeon had been submitted by the above-named individual. The requested permit has been issued under the authority of the Endangered Species Act of 1973, as amended (ESA; 16 U.S.C. 1531 et seq.) and the regulations governing the taking, importing, and exporting of endangered and threatened species (50 CFR parts 222-226).

The applicant is authorized to conduct a five-year scientific study determining the presence, abundance and distribution of shortnose sturgeon in North Carolina rivers (Chowan, Roanoke, and Cape Fear) and estuaries (Albemarle Sound). The permit authorizes non-lethal sampling with anchored gill nets, capturing up to 15 shortnose sturgeon annually from the Chowan and Cape Fear River Basins and Albemarle Sound. Similar activities capturing up to 25 shortnose sturgeon from the Roanoke River Basin will also be conducted each year. A sub-set of up to five adults or sub-adults from each river and Albemarle Sound will be anesthetized and implanted with internal sonic transmitters annually. Each will be captured, measured, weighed, sampled for genetic tissue analysis, and PIT tagged. Tracking sturgeon at fixed receiver stations will take place providing information about movement, seasonal distribution and habitat use.

As required by the ESA, issuance of this permit was based on a finding that such permit: (1) was applied for in good faith; (2) will not operate to the disadvantage of such endangered species; and (3) is consistent with the purposes and policies set forth in section 2 of the ESA.

Dated: August 25, 2010.
P. Michael Payne,
Chief, Permits, Conservation and Education Division, Office of Protected Resources, National Marine Fisheries Service.

[FR Doc. 2010-21709 Filed 8-30-10; 8:45 am]

BILLING CODE 3510-22-S